DEPARTMENT OF COMMERCE

Foreign-Trade Zones Board

[B-09-2019]

Proposed Foreign-Trade Zone—Jefferson County, Colorado; Under Alternative Site Framework

An application has been submitted to the Foreign-Trade Zones (FTZ) Board by the Jefferson County Economic Development Corporation, to establish a foreign-trade zone in the Jefferson County, Colorado area, adjacent to the U.S. Customs and Border Protection (CBP) user fee airport at the Rocky Mountain Metropolitan Airport, under the alternative site framework (ASF) adopted by the FTZ Board (15 CFR Sec. 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on February 25, 2019. The applicant is authorized to make the proposal under Title 7, Article 49.5 of the Colorado Revised Statutes.

The applicant's proposed service area under the ASF would be Boulder, Clear Creek, Gilpin and Jefferson Counties, Colorado. If approved, the applicant would be able to serve sites throughout the service area based on companies' needs for FTZ designation. The application indicates that the proposed service area is within and adjacent to the Rocky Mountain Metropolitan Airport CBP user fee airport.

The application indicates a need for zone services in the Jefferson County, Colorado area. Several firms have indicated an interest in using zone procedures for warehousing/distribution activities for a variety of products. The application is not requesting any magnet sites or subzones/usage-driven sites at this time. Specific production approvals are not being sought at this time. Such requests would be made to the FTZ Board on a case-by-case basis.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is April 30, 2019. Rebuttal comments in response to material submitted during the foregoing period may be submitted during the subsequent 15-day period to May 15, 2019.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Christopher Kemp at Christopher.Kemp@trade.gov or (202) 482-0862.

Dated: February 25, 2019.
Andrew McGilvray,
Executive Secretary.

[FR Doc. 2019-03683 Filed 2-28-19; 8:45 am]

BILLING CODE 3510-DS-P